DEPARTMENT OF THE INTERIOR

Fish and Wildlife Service

[Docket No. FWS-R4-ES-2019-0028; FXES11130400000EA-123-FF04EF1000]

Endangered and Threatened Wildlife; Receipt of Incidental Take Permit Application and Proposed Habitat Conservation Plan for the Sand Skink, Lake County, FL; Categorical Exclusion

AGENCY: Fish and Wildlife Service, Interior.

ACTION: Notice of availability; request for comment and information.

SUMMARY: We, the Fish and Wildlife Service (Service), have received an application from the City of Groveland, Florida (applicant), to amend an incidental take permit under the Endangered Species Act. The 10-year ITP authorizes take of the federally listed sand skink incidental to the construction of a fire station and parking lot in Lake County, Florida. We request public comment on the application and on our preliminary determination that the proposed amendment of the habitat conservation plan (HCP) qualifies as “low-effect” under the National Environmental Policy Act. To make this determination, we used our environmental action statement and low-effect screening form, which are also available for review.

DATES: We must receive your written comments by June 12, 2019.

ADDRESSES:

Obtaining Documents: You may obtain copies of the documents online in Docket No. FWS-R4-ES-2019-0028 at http://www.regulations.gov.

Submitting Comments: You may submit comments by one of the following methods:

• Online: http://www.regulations.gov. Follow the instructions for submitting comments on Docket No. FWS-R4-ES-2019-0028.

• U.S. mail or hand-delivery: Public Comments Processing; Attn: Docket No. FWS-R4-ES-2019-0028; U.S. Fish and Wildlife Service, MS: BPHC; 5275 Leesburg Pike; Falls Church, VA 22041-3803.

FOR FURTHER INFORMATION CONTACT: Erin M. Gawera, by telephone at 904-731-3121, via the Federal Relay Service at 800-877-8339, or via email at erin_gawera@fws.gov.

SUPPLEMENTARY INFORMATION: We, the Fish and Wildlife Service (Service), have received an application from the City of Groveland, Florida (applicant), to amend an incidental take permit no. TE69161C-0 (ITP) under the Endangered Species Act of 1973, as amended, (ESA; 16 U.S.C. 1531 et seq.). The 10-year ITP authorizes take of the federally listed sand skink (Neoseps reynoldsi) incidental to the construction of a fire station and parking lot in Lake County, Florida. We request public comment on the application, which includes the proposed habitat conservation plan (HCP), and on our preliminary determination that the proposed amendment of the HCP qualifies as “low-effect” under the National Environmental Policy Act (NEPA; 42 U.S.C. 4321 et seq.). To make this determination, we used our environmental action statement and low-effect screening form, which are also available for review.

We issued ITP TE69161C-0 to the applicant authorizing take of the sand skink incidental to the conversion of approximately 1.57 acres of occupied foraging and sheltering habitat for the construction of a fire station and parking lot. The station will be constructed within a 4.61-acre project site located on parcel Number 19-22-25-000100005200 in Section 19, Township 22 South, Range 25 East, Lake County, Florida.

The applicant is requesting that the Service amend its ITP to authorize additional take of the sand skink through the conversion of another 0.41 acre (totaling approximately 1.98 acres) of occupied foraging and sheltering habitat incidental to the project. The project includes clearing, infrastructure building, and landscaping associated with construction. To mitigate for take under the ITP, the applicant agreed to purchase 3.14 mitigation credits in the Backbone Conservation Bank or another Service-approved sand skink bank. The applicant proposes to purchase an additional .82 credit (totaling 3.96 credits) in the conservation bank to mitigate for additional take of the species.

Public Availability of Comments

All comments, whether received electronically or via hard copy, will be posted on http://regulations.gov and become part of the decision record associated with this action. Before including your address, phone number, email address, or other personal identifying information in your comment, be aware that your entire comment—including your personal identifying information—may be made available to the public. While you can request that we withhold your personal identifying information, we cannot guarantee that we will be able to do so.

Our Preliminary Determination

We have determined that the applicant's proposal, including the proposed mitigation and minimization measures, would have minor or negligible effects on the sand skinks and the environment. Therefore, we have preliminarily determined that amendment of the ITP would be “low effect” and qualify for categorical exclusion under NEPA. A low-effect HCP is one involving (1) minor or negligible effects on federally listed or candidate species and their habitats, and (2) minor or negligible effects on other environmental values or resources.

Next Steps

The Service will evaluate the application to amend the ITP and consider all comments received to determine whether to amend the ITP application. We will also conduct an intra-Service consultation pursuant to section 7 of the ESA. After considering the above findings, we will determine whether the requirements of section 10(a)(1)(B) of the ESA and 50 CFR 13.23 have been met. If met, the Service will issue an amended ITP no. TE69161C-1 to the applicant for incidental take of the sand skink.

Authority

The Service provides this notice under section 10 of the ESA (16 U.S.C. 1539) and NEPA regulation 40 CFR 1506.6.

Jay B. Herrington,
Field Supervisor, Jacksonville, FL Field Office, Southeast Region.

[FR Doc. 2019-09711 Filed 5-10-19; 8:45 am]

BILLING CODE 4333-15-P